DEPARTMENT OF STATE

[Delegation of Authority No. 288]

Delegation of Authority to the Global AIDS Coordinator Under the FY 2005 Foreign Operations Export Financing and Related Programs Appropriations Act

By virtue of the authority vested in me by the laws of the United States including by the Foreign Assistance Act of 1961, as amended (22 U.S.C. 2152 et seq.), section 1 of the State Department Basic Authorities Act of 1956, as amended (22 U.S.C. 2651a), and Delegation of Authority Number 245 of April 23, 2001, State Department Delegation of Authority No. 145 of February 4, 1980, as amended, is hereby further amended as follows:

Section 1: Section 1(p) is restated as follows:

“(p) To the Global AIDS Coordinator:

“(1) Those functions in the United States Leadership Against HIV/AIDS, Tuberculosis and Malaria Act of 2003 (P.L. 108-25) (Act), as amended, except amendments made by that Act, that were conferred upon the President and delegated to the Secretary of State;

“(2) The functions conferred upon the Secretary of State by Section 525 of the FY 2005 Foreign Operations Export Financing And Related Programs Appropriations Act (Pub. L. 108-447).”

Section 2: Notwithstanding any provision of this Delegation of Authority, the Secretary of State and Deputy Secretary of State may at any time exercise any function delegated by this delegation of authority.

This delegation shall be published in the Federal Register.

Dated: February 6, 2006.
Robert B. Zoellick,
Deputy Secretary of State, Department of State.

[FR Doc. E6-2592 Filed 2-22-06; 8:45 am]

BILLING CODE 4710-10-P